DEPARTMENT OF TRANSPORTATION

Pipeline and Hazardous Materials Safety Administration

[Docket No. PHMSA-06-24304 (Notice No. 06-2)]

Safety Advisory: Manufacture, Marking, and Sale of Untested Compressed Gas Cylinders

AGENCY: Pipeline and Hazardous Materials Safety Administration (PHMSA), DOT.

ACTION: Safety advisory notice.

SUMMARY: PHMSA was recently notified of the manufacture, marking, and sale of certain high pressure DOT exemption cylinders that were not tested in accordance with applicable regulatory requirements. These cylinders were manufactured and/or distributed by Luxfer, Inc. (Luxfer), Riverside, CA. Luxfer and its independent inspection agency, Arrowhead Industrial Services, Inc. (Arrowhead), reported to PHMSA that 6,325 high pressure cylinders manufactured to the DOT CFFC and FRP-1 standards as authorized in DOT-E 10915, DOT-E 9634, and DOT-E 9894, had been shipped from Luxfer without undergoing the required autofrettage and hydrostatic tests. In a joint effort, Luxfer and Arrowhead have retrieved 2,581 of the untested cylinders. The model numbers and serial numbers of the remaining 3,744 cylinders are listed in this notice. Only cylinders with the listed serial numbers listed are affected. A person with a listed cylinder should discontinue use of the cylinder and return it to Arrowhead at the address below so the autofrettage and hydrostatic test can be completed before its next use. Shippers and compressed gas filling facilities are advised that these cylinders do not meet the requirements of the Hazardous Materials Regulations and may not be offered for transportation or transported until the required testing is completed.

FOR FURTHER INFORMATION CONTACT: Wayne E. Chaney, Cylinder Program Manager, Office of Hazardous Materials Enforcement, (202) 366-4700, Pipeline and Hazardous Materials Safety Administration, U.S. Department of Transportation, 400 Seventh Street, SW., Room 7104, Washington, DC 20590-0001.

SUPPLEMENTARY INFORMATION: Luxfer and its independent inspection agency, Arrowhead Industrial Services, Inc. (Arrowhead), reported to PHMSA that 6,325 high pressure cylinders manufactured to the DOT CFFC and FRP-1 standards as authorized in DOT-E 10915, DOT-E 9634, and DOT-E 9894, had been shipped from Luxfer without undergoing the required autofrettage and hydrostatic tests. In a joint effort, Luxfer and Arrowhead have retrieved 2,581 of the untested cylinders. PHMSA has compiled a list of all model and serial number markings of the remaining cylinders identified by Luxfer and Arrowhead that were not properly tested prior to distribution. Information provided to PHMSA indicates many of these cylinders are being used as self-contained breathing apparatus, in paint ball applications, and in aircraft slide service. Any person possessing a cylinder manufactured by Luxfer and marked with exemption number DOT-E 10915, DOT-E 9634, or DOT-E 9894 and marked with one of the serial numbers listed in this notice should take the cylinder to a qualified refilling station and have the pressure relieved from the cylinder. The cylinder should be returned to Arrowhead Industrial Services for autofrettage and hydrostatic testing before further use. Refilling stations and cylinder requalification facilities are advised that any cylinders marked with DOT-E 10915, DOT-E 9634, or DOT-E 9894 should be checked against the attached list of serial numbers before they are filled or requalified for service. To make arrangements to have an affected cylinder autofrettaged and hydrostatically tested, contact Arrowhead Industrial Services, Inc., 3537 South NC 119, P.O. Box 1000, Graham, NC 27253; telephone (336) 578-2777.

This safety advisory covers only the high-pressure DOT exemption cylinders manufactured by Luxfer that have a model number and serial listed on the attached list. Not all cylinders manufactured by Luxfer under DOT-E 10915, DOT-E 9634, and DOT-E 9894 are affected.

Model No. (# of cylinders) | Serial Nos.
LI7A MSA (42) | 6276, 6277, 6278, 6279, 6280, 6281, 6282, 6283, 6284, 6285, 6286, 6287, 6288, 6289, 6290, 6291, 6292, 6293, 6294, 6295, 6296, 6297, 6298, 6299, 6300, 6301, 6302, 6303, 6304, 6305, 6306, 6307, 6308, 6309, 6310, 6311, 6312, 6313, 6314, 6315, 6316, 6317
LI7D SURV (12) | 154, 155, 156, 157, 158, 159, 160, 161, 162, 163, 164, 165
LI7M MSA (3) | 1282, 1287, 1307
L45G-1 SURV (38) | 95899, 95900, 95903, 95904, 95905, 95906, 95907, 95908, 95909, 95910, 95911, 95912, 95913, 95914, 95915, 95917, 95918, 95919, 95921, 95922, 95925, 95927, 95928, 95929, 95930, 95931, 95932, 95933, 95934, 95935, 95936, 95938, 95940, 95941, 95942, 95943, 95944, 95945
L45G-2 Scott IJ (108) | 111401, 111561, 113303, 111404, 111562, 113305, 111409, 111565, 113307, 111550, 111567, 113310, 111551, 111576, 113311, 111553, 111577, 113313, 111554, 111579, 113316, 111556, 111580, 113317,, 111557, 111581, 113318, 111558, 111582, 113324, 111560, 111585, 113409, 111586, 113445, 111587, 113450, 111588, 113451, 111589, 113452, 111590, 113453, 112470, 113454, 112475, 113455, 112478, 113456, 112479, 113457, 113201, 113459, 113204, 113460, 113219, 113461, 113230, 113462, 113236, 113464, 113241, 113473, 113248, 113474, 113252, 113480, 113254, 113492, 113258, 113498, 113263,, 113532, 113264, 113533, 113265, 113536, 113267,, 113538, 113269, 113542, 113272, 113544, 113273,, 113547, 113274, 113548, 113277, 113550, 113281, 113555, 113282, 113556, 113284, 113564, 113285, 113569, 113286, 113833, 113288, 113867, 113294, 113905, 113298, 114633, 113299, 114671, 113302
L45J-1 SURV (117) | 29576, 29630, 29838, 29577, 29631, 29840, 29578, 29632, 29841, 29579, 29633, 29844, 29580, 29634, 29845, 29581, 29635, 29846, 29582, 29636, 29848, 29583, 29637, 29849, 29584, 29638, 29850, 29586, 29639, 29853, 29587, 29640, 29858, 29588, 29641, 29860, 29589, 29642, 29861, 29590, 29643, 29862, 29591, 29644, 29863, 29592, 29645, 29864, 29593, 29647, 29865, 29594, 29648, 29866, 29595, 29649, 29867, 29596, 29650, 29597, 29651, 29598, 29652, 29599, 29653, 29600, 29654, 29602, 29655, 29603, 29656, 29604, 29657, 29605, 29658, 29606, 29659, 29607, 29660, 29609, 29661, 29610, 29662, 29611, 29663, 29612, 29665, 29613, 29667, 29615, 29668, 29616, 29670, 29617, 29812, 29618, 29815, 29619, 29816, 29620, 29818, 29621, 29822, 29622, 29823, 29623, 29824, 29624, 29832, 29625, 29833, 29626, 29834, 29628, 29836, 29629, 29837
L45J-14 SURV (1) | 42177
L45J-19 SURV (7) | 42986, 42987, 42988, 42989, 42990, 42991, 42992
L45M-44 SCOTT (54) | 49855, 49904, 49856, 49905, 49857, 49906, 49858, 49907, 49859, 49908, 49860, 49861, 49862, 49863, 49864, 49865, 49866, 49867, 49868, 49869, 49870, 49871, 49872, 49873, 49874, 49875, 49876, 49877, 49878, 49879, 49880, 49881, 49882, 49883, 49884, 49885, 49886, 49887, 49888, 49889, 49890, 49891, 49892, 49893, 49894, 49895, 49896, 49897, 49898, 49899, 49900, 49901, 49902, 49903
L45M-1 MSA (73) | 76785, 76786, 76787, 76788, 76789, 76790, 76791, 76792, 76793, 76794, 76795, 76796, 76797, 76798, 76799, 76800, 76801, 76802, 76803, 76804, 76805, 76806, 76807, 76808, 76809, 76810, 76811, 76812, 76813, 76814, 76815, 76816, 76817, 76818, 76819, 76820, 76821, 76822, 76823, 76824, 76825, 76826, 76827, 76828, 76829, 76830, 76831, 76832, 76833, 76834, 76835, 76836, 76837, 76838, 76839, 76840, 77553, 77559, 77560, 77564, 77565, 77568, 77575, 77579, 77580, 77585, 77589, 77596, 77597, 77615, 77634, 77649, 77650
L45M-18 SCOTT (888) | 136584, 136585, 136586, 136587, 136588, 136589, 136590, 136591, 136592, 136593, 136594, 136595, 136596, 136597, 136598, 136599, 136600, 136601, 136602, 136603, 136604, 136605, 136606, 136607, 136608, 136609, 136610, 136611, 136612, 136613, 136614, 136615, 136616, 136617, 136618, 136619, 136620, 136621, 136622, 136623, 136624, 136625, 136626, 136627, 136628, 136629, 136630, 136631, 136632, 136633, 136634, 136635, 136636, 136637, 136638, 136639, 136640, 136641, 136809, 136810, 136811, 136812, 136813, 136814, 136815, 136816, 136817, 136818, 136819, 136820, 136821, 136822, 136823, 136824, 136825, 136826, 136827, 136828, 136829, 136830, 136831, 136832, 136833, 136834, 136835, 136836, 136837, 136838, 136839, 136840, 136841, 136842, 136843, 136844, 136845, 136846, 136847, 136848, 136849, 136850, 136851, 136852, 136853, 136854, 136855, 136856, 136857, 136858, 136859, 136860, 136861, 136862, 136863, 136864, 136865, 138145, 138146, 138147, 138148, 138149, 138150, 138151, 138152, 138153, 138154, 138155, 138156, 138157, 138158, 138159, 138160, 138161, 138162, 138163, 138164, 138165, 138166, 138167, 138168, 138169, 138170, 138171, 138172, 138173, 138174, 138175, 138176, 138177, 138178, 138179, 138180, 138181, 138182, 138183, 138184, 138185, 138186, 138187, 138188, 138189, 138190, 138191, 138192, 138193, 138194, 138195, 138196, 138197, 138198, 138199, 138200, 138915, 138916, 138917, 138918, 138919, 138920, 138921, 138922, 138923, 138924, 138925, 138926, 138927, 138928, 138929, 138930, 138931, 138932, 138933, 138934, 138935, 138936, 138937, 138938, 138939, 138940, 138941, 138942, 138943, 138944, 138945, 138946, 138947, 138948, 138949, 138950, 138951, 138952, 138953, 138954, 138955, 138956, 138957, 138958, 138959, 138960, 138961, 138962, 138963, 138964, 138965, 138966, 138967, 138968, 138969, 138970, 138971, 138972, 138973, 138974, 138975, 138976, 138977, 138978, 138979, 138980, 138981, 138982, 138983, 138984, 138985, 138986, 138987, 138988, 138989, 138990, 138991, 138992, 138993, 138994, 138995, 138996, 138997, 138998, 138999, 139000, 139001, 139002, 139003, 139004, 139005, 139006, 139007, 139008, 139009, 139010, 139011, 139012, 139013, 139014, 139015, 139016, 139017, 139018, 139019, 139020, 139021, 139022, 139023, 139024, 139025, 139026, 139027, 139028, 139029, 139030, 139031, 139032, 139033, 139034, 139035, 139036, 139037, 139038, 139039, 140757, 140758, 140759, 140760, 140761, 140762, 140763, 140764, 140765, 140766, 140767, 140768, 140769, 140770, 140771, 140772, 140773, 140774, 140775, 140776, 140799, 140800, 140801, 140802, 140803, 140804, 140805, 140806, 140807, 140808, 140809, 140810, 140811, 140812, 140813, 140814, 140815, 140816, 140817, 140818, 140819, 140820, 140821, 140822, 140823, 140824, 140825, 140826, 140827, 140828, 140829, 140830, 140831, 140832, 140833, 140834, 140835, 140836, 140837, 140838, 140839, 140840, 140841, 140842, 140843, 140844, 140845, 140846, 140847, 140848, 140849, 140850, 140851, 141582, 141583, 141584, 141585, 141585, 141587, 141588, 141589, 141590, 141591, 141592, 141593, 141594, 141595, 141596, 141597, 141598, 141599, 141600, 141601, 141602, 141603, 141604, 141605, 141606, 141607, 141608, 141609, 141610, 141611, 141612, 141613, 141614, 141615, 141616, 141617, 141618, 141619, 141620, 141621, 141622, 141623, 141624, 141625, 141626, 141627, 141628, 141629, 141630, 141631, 141632, 141633, 141634, 141635, 141636, 141637, 141638, 141639, 141640, 141641, 141642, 141643, 141644, 141645, 141646, 141647, 141648, 141649, 141650, 141651, 141652, 141653, 141654, 141655, 141656, 141657, 141658, 141659, 141660, 141661, 143205, 143206, 143207, 143208, 143209, 143210, 143211, 143212, 143213, 143214, 143215, 143216, 143217, 143218, 143219, 143220, 143221, 143222, 143223, 143224, 143225, 143226, 143227, 143228, 143229, 143230, 143231, 143232, 143233, 143234, 143235, 143236, 143237, 143238, 143239, 143240, 143241, 143242, 143243, 143244, 143245, 143246, 143247, 143248, 143249, 143250, 143251, 143252, 143253, 143254, 143255, 143256, 143257, 143258, 143259, 143260, 143261, 143262, 143263, 143264, 143265, 143266, 143267, 143268, 143269, 143270, 143271, 143272, 143273, 143274, 143275, 143276, 143277, 143278, 143279, 143280, 143281, 143282, 143283, 143284, 143285, 143286, 143287, 143288, 143289, 143290, 143291, 143292, 143293, 143294, 143295, 143296, 143297, 143298, 143299, 143300, 143301, 143302, 143303, 143304, 143306, 143307, 143308, 143309, 143310, 143311, 143312, 143313, 143314, 143315, 143316, 143318, 143319, 143320, 143321, 143322, 143323, 143324, 143325, 143326, 143327, 143328, 143329, 143330, 143331, 143332, 143333, 143334, 143335, 143336, 143337, 143338, 143339, 143340, 143341, 143342, 143343, 143344, 143345, 143346, 143347, 143348, 143349, 143350, 143351, 143352, 143353, 143354, 143355, 143356, 143357, 143358, 143359, 143360, 143361, 143362, 143363, 143364, 143365, 143366, 143367, 143368, 143369, 143370, 143371, 143372, 144398, 144399, 144400, 144401, 144402, 144403, 144404, 144405, 144406, 144407, 144408, 144409, 144410, 144411, 144412, 144413, 144414, 144415, 144587, 144588, 144589, 144590, 144591, 144592, 144593, 144594, 144595, 144596, 144597, 144598, 144599, 144600, 144601, 144602, 144603, 144604, 144605, 144606, 144607, 144608, 144609, 144610, 144611, 144612, 144613, 144614, 144616, 144617, 144618, 144619, 144620, 144621, 144622, 144623, 144624, 144625, 144626, 144627, 144628, 144629, 144630, 144631, 144632, 144633, 144634, 144635, 144636, 144637, 144638, 144639, 144640, 144641, 144642, 144643, 144644, 144645, 144646, 144647, 144648, 144649, 144650, 144651, 144652, 144653, 144654, 144655, 144656, 144657, 144658, 144659, 144660, 144661, 144662, 144663, 144664, 144665, 144666, 144667, 144668, 144669, 144670, 144671, 144672, 144673, 144674, 144675, 144676, 144677, 144678, 144679, 144680, 144681, 144682, 144683, 144684, 144685, 144686, 144687, 144688, 144689, 144690, 144691, 144692, 144693, 144694, 144695, 144696, 144697, 144698, 144699, 144700, 144701, 144702, 144703, 144704, 144705, 144706, 144707, 144708, 144709, 144710, 144711, 144712, 144713, 144714, 144715, 144717, 144718, 144719, 144720, 144721, 144722, 144723, 144724, 144725, 145262, 145265, 145270, 145274, 145276, 145278, 145282, 145286, 145289, 145290, 145295, 145297, 145298, 145299, 145301, 145303, 145305, 145308, 145310, 145314, 145317, 145319, 145320, 145321, 145324, 145326, 145329, 145332, 145333, 145337, 145342, 145343, 145348, 145351,
| 145355, 145360, 145361, 145364, 145365, 145371, 145372, 145375, 145380, 145381, 145383, 145386, 145387, 145388, 145389, 145394, 145395, 145396, 145397, 145398, 145400, 145401, 145402, 145403, 145405, 145407, 145408, 145410, 145411, 145412, 145413, 145416, 145418, 145419, 145420, 145422, 145424, 145425, 145430, 145431, 145432, 145433, 145434, 146104, 146108, 146109, 146110, 146114, 146116, 146120, 146121, 146122, 146127, 146128, 146132, 146134, 146138, 146139, 146140, 146144, 146145, 146146, 146148, 146151, 146152, 146156, 146341, 146352, 146362, 146373, 146374, 146378, 146380, 146386, 146390, 146391, 146392, 146398, 146402, 146403, 146405, 146406, 146408, 146409
L45M-34 MSA (42) | 200900, 200901, 200902, 200903, 200904, 200905, 200906, 200907, 200908, 200909, 200910, 200911, 200912, 200913, 200914, 200915, 200916, 200917, 200918, 200919, 200920, 200921, 200922, 200923, 200924, 200925, 200926, 200927, 200928, 200929, 200930, 200931, 200932, 200933, 200934, 200935, 200936, 200937, 200938, 200939, 200940, 200941
L45S-1 MSA (13) | 112178, 112193, 112212, 114034, 114035, 114042, 114043, 114045, 114048, 114051, 114052, 114055, 114056
L65G-16 MSA (101) | 158662, 158663, 158664, 158665, 158666, 158667, 158668, 158669, 158670, 158673, 158674, 158675, 158677, 158678, 158679, 158680, 158681, 158682, 158683, 158684, 158685, 158686, 158687, 158688, 158689, 158690, 158691, 158692, 158693, 158694, 158695, 158696, 158697, 158698, 158699, 158700, 158865, 158866, 158867, 158868, 158869, 158870, 158871, 158872, 158873, 158874, 158875, 158876, 158877, 158878, 158880, 158881, 158882, 158883, 158884, 158885, 158886, 158887, 158888, 158889, 158890, 158891, 158892, 158894, 158895, 158896, 158897, 158899, 158900, 158901, 158902, 158903, 158904, 158905, 158906, 158907, 158908, 158909, 158911, 158912, 158913, 158914, 158915, 158916, 158918, 158919, 158920, 158921, 158922, 158923, 158924, 159486, 159487, 159495, 159513, 159551, 159558, 159561, 159564, 159585, 159599
L65G-1 SURV (4) | 201492, 201503, 201515, 201526
L65G-2 SCOTT (757) | 216018, 216019, 216020, 216021, 216022, 216023, 216024, 216025, 216026, 216027, 216028, 216029, 216030, 216031, 216032, 216033, 216034, 216035, 216036, 216037, 216038, 216039, 216040, 216041, 216042, 216043, 216044, 216045, 216046, 216047, 216800, 216801, 216802, 216803, 216804, 216805, 216806, 216807, 216808, 216809, 216810, 216811, 216812, 216813, 216814, 216815, 216816, 216817, 216818, 216819, 216820, 216821, 216822, 216823, 216824, 216825, 216826, 216827, 216828, 216829, 216830, 216831, 216832, 216833, 216834, 216835, 216836, 216837, 216838, 216839, 216840, 216841, 216842, 217753, 217754, 217755, 217756, 217757, 217758, 217759, 217760, 217761, 217762, 217763, 217764, 217765, 217766, 217767, 217768, 217769, 217770, 217771, 217772, 217773, 217774, 217775, 217777, 217778, 217779, 217780, 217781, 217782, 217864, 217865, 217866, 217867, 217868, 217869, 217870, 217871, 217872, 217873, 217874, 217875, 217876, 217877, 217878, 217879, 217880, 217881, 217882, 217883, 217884, 217885, 217886, 217887, 217888, 217889, 217890, 217891, 217892, 217893, 217894, 217895, 217896, 217897, 217898, 217899, 217900, 217901, 217902, 217903, 217904, 217905, 217906, 217907, 217908, 217909, 217910, 217911, 217912, 217913, 217914, 217915, 217916, 217917, 217918, 217919, 217920, 217921, 217922, 217923, 217924, 217925, 217926, 217927, 217928, 217929, 218072, 218073, 218074, 218075, 218076, 218077, 218078, 218079, 218080, 218081, 218082, 218083, 218084, 218085, 218086, 218087, 218088, 218089, 218090, 218091, 218092, 218093, 218094, 218095, 218096, 218097, 218098, 218099, 218100, 218101, 218102, 218103, 218104, 219936, 219937, 219938, 219939, 219940, 219941, 219942, 219943, 219944, 219945, 219946, 219947, 219948, 219949, 219950, 219951, 219952, 219953, 219954, 219955, 219956, 219957, 219958, 219959, 219960, 219961, 219962, 219963, 219964, 219965, 219966, 219967, 219968, 219969, 219970, 219971, 219972, 219973, 219974, 219975, 219976, 219977, 219978, 219979, 219980, 219981, 219982, 219983, 219984, 219985, 219986, 219987, 219988, 219989, 219990, 219991, 219992, 219993, 219994, 219995, 219996, 219997, 219998, 219999, 220000, 220001, 220002, 220003, 220004, 220005, 220006, 220007, 220008, 220009, 220010, 220011, 220012, 220013, 220014, 220015, 220016, 220017, 220018, 220019, 220020, 220021, 220022, 220023, 220024, 220025, 220026, 220027, 220028, 220029, 220030, 220031, 220032, 220033, 220034, 220035, 220036, 220037, 220038, 220039, 220040, 220041, 220042, 220043, 220044, 220045, 220046, 220047, 220048, 220049, 220050, 220051, 220052, 220053, 220054, 220055, 220056, 220057, 220058, 220059, 220060, 220061, 220147, 220148, 220149, 220150, 220151, 220153, 220154, 220155, 220156, 220157, 220158, 220159, 220160, 220161, 220162, 220163, 220164, 220165, 220166, 220167, 220168, 220169, 220170, 220171, 220172, 220173, 220174, 220175, 220176, 220177, 220178, 220179, 220180, 220181, 220182, 220183, 220184, 220185, 220187, 220188, 220225, 220226, 220227, 220228, 220229, 220230, 220231, 220232, 220234, 220235, 220236, 220237, 220238, 220239, 220240, 220241, 220242, 220243, 220244, 220245, 220246, 220247, 220248, 220249, 220250, 220251, 220252, 220253, 220254, 220255, 220256, 220257, 220258, 220259, 220260, 220261, 220262, 220263, 220264, 220266, 220270, 220271, 220272, 220273, 220277, 220278, 220279, 220283, 220284, 220285, 220289, 220290, 220291, 220295, 220296, 220297, 220298, 220299, 220301, 220302, 220303, 220305, 220307, 220435, 220436, 220437, 220438, 220439, 220440, 220441, 220442, 220443, 220444, 220445, 220446, 220447, 220448, 220449, 220450, 220451, 220452, 220453, 220454, 220455, 220456, 220457, 220458, 220459, 220460, 220461, 220462, 220463, 220464, 220465, 220466, 220467, 220468, 220469, 220470, 220471, 220472, 220473, 220474, 220475, 220476, 220477, 220478, 220479, 220480, 220481, 220482, 220483, 220484, 220485, 220486, 220487, 220488, 220489, 220490, 220492, 220493, 220494, 220495, 220496, 220497, 220498, 220499, 220500, 220501, 220502, 220503, 220504, 220505, 220506, 220507, 220508, 220509, 220510, 220511, 220512, 220513, 220514, 220515, 220516, 220517, 220518, 220519, 220520, 220521, 220522, 220523, 220524, 220525, 220526, 220527, 220528, 220529, 220530, 220531, 220533, 220534, 220535, 220536, 220537, 220538, 220539, 220540, 220541, 220542, 220543, 220544, 220545, 220546, 220547, 220548, 220549, 220550, 220551, 220552, 220553, 220554, 220555, 220556, 220557, 220558, 220559, 220560, 220814, 220818, 220828, 220834, 220838, 220841, 221125, 221126, 221127, 221128, 221129, 221130, 221131, 221132, 221133, 221134, 221135, 221136, 221137, 221138, 221139, 221140, 221141, 221142, 221143, 221144, 221145, 221146, 221147, 221148, 221149, 221150, 221151, 221152, 221153, 221154, 221155, 221156, 221157, 221158, 221159, 221160, 221161, 221162, 221163, 221164, 221165, 221166, 221249, 221250, 221251, 221252, 221253, 221254, 221255, 221256, 221257, 221258, 221259, 221260, 221261, 221262, 221263, 221264, 221265, 221266, 221267, 221268, 221269, 221270, 221271, 221272, 221273, 221274, 221275, 221276, 221277, 221278, 221279, 221280, 221281, 221282, 221283, 221284, 221285, 221286, 221287, 221288, 221289, 221290, 221291, 221292, 221293, 221294, 221295, 221296, 221297, 221298, 221299, 221300, 221301, 221302, 221303, 221304, 221305, 221306, 221307, 221308, 221309, 221310, 221311, 221312, 221313, 221314, 221315, 221316, 221317, 221318, 221319, 221320, 221321, 221322, 221323, 221324, 221325, 221326, 221327, 221328, 221329, 221330, 221331, 221332, 221333, 221334, 221335, 221336, 221338, 221339, 221340, 221341, 221342, 221343, 221344, 221345, 221346, 221347, 221348, 221349, 221350, 221351, 221352, 221353, 221354, 221355, 221356, 221357, 221358, 221359, 221360, 221361, 221362, 221363, 221364, 221365, 221366, 221367, 221368, 221369, 225459, 225460, 225461, 225462, 225463, 225464, 225465, 225466, 225467, 225468, 225469, 225470, 225471, 225472, 225473, 225474, 225475, 225476, 225761, 225768, 225788, 225809, 225832, 225872, 225880, 225887, 225890, 225895, 225905, 225908, 225932, 225935, 226137, 226159, 226186
L65G-81 MSA (22) | 301100, 301101, 301102, 301103, 301104, 301105, 301106, 301107, 301108, 301109, 301110, 301111, 301112, 301113, 301114, 301115, 301116, 301117, 301118, 301119, 301120, 301121
L65G-88 SCOTT (42) | 301752, 301753, 301754, 301755, 301756, 301757, 301758, 301759, 301760, 301761, 301762, 301763, 301764, 301765, 301766, 301767, 301768, 301769, 301770, 301771, 301772, 301773, 301774, 301775, 301776, 301777, 301778, 301779, 301780, 301781, 301782, 301783, 301784, 301785, 301786, 301787, 301788, 301789, 301790, 301791, 301792, 301793
L65M-1 MSA (114) | 57126, 57127, 57128, 57129, 57130, 57131, 57132, 57133, 57134, 57135, 57136, 57137, 57139, 57140, 57141, 57143, 57145, 57146, 57148, 57149, 57150, 57151, 57152, 57153, 57154, 57155, 57156, 57158, 57159, 57161, 57162, 57163, 57164, 57165, 57291, 57292, 57293, 57295, 57296, 57297, 57298, 57299, 57300, 57302, 57303, 57305, 57307, 57308, 57309, 57310, 57311, 57312, 57313, 57314, 57315, 57316, 57317, 57319, 57320, 57321, 57323, 57324, 57326, 57327, 57328, 57329, 57330, 57332, 57333, 57334, 57335, 57336, 57337, 57338, 57340, 57341, 57342, 57343, 57344, 57345, 57346, 57347, 57348, 57349, 57350, 57351, 57352, 57354, 57355, 57356, 57357, 57358, 57359, 57360, 57361, 57362, 57363, 57364, 57366, 57511, 57512, 57518, 57520, 57524, 57526, 57527, 57528, 57531, 57533, 57535, 57537, 57546, 57697, 57698
L65M-4 MSA (3) | 61425, 61426, 61427
L65M-51 SCOTT (81) | 62406, 62407, 62408, 62409, 62410, 62411, 62412, 62413, 62414, 62415, 62416, 62417, 62418, 62419, 62420, 62421, 62422, 62423, 62424, 62425, 62426, 62427, 62428, 62429, 62430, 62431, 62432, 62433, 62434, 62435, 62436, 62437, 62438, 62439, 62440, 62441, 62442, 62443, 62444, 62445, 62446, 62447, 62490, 62491, 62492, 62493, 62494, 62495, 62496, 62497, 62498, 62499, 62500, 62501, 62502, 62503, 62504, 62505, 62506, 62507, 62508, 62509, 62510, 62511, 62512, 62513, 62514, 62515, 62516, 62517, 62518, 62519, 62520, 62521, 62522, 62523, 62524, 62525, 62526, 62527, 62528
L65M-5 SCOTT (35) | 62725, 62726, 62727, 62728, 62729, 62730, 62731, 62732, 62733, 62734, 62735, 62736, 62737, 62738, 62739, 62740, 62741, 62742, 62743, 62744, 62745, 62746, 62747, 62748, 62749, 62750, 62751, 62752, 62753, 62754, 62755, 62756, 62757, 62758, 62759
L65M-5 MSA (14) | 62800, 62801, 62802, 62806, 62807, 62808, 62809, 62812, 62813, 62814, 62815, 62816, 62817, 62818
L87G-2 SCOTT (322) | 149667, 149668, 149669, 149670, 149671, 149672, 149673, 149674, 149675, 149676, 149677, 149678, 149679, 149680, 149681, 149682, 149683, 149684, 149685, 149686, 149687, 149688, 149689, 149690, 149691, 149692, 149693, 149694, 149695, 149696, 149697, 149698, 149699, 149700, 149701, 149702, 149703, 149704, 149705, 149706, 149708, 149709, 149710, 149711, 149712, 149713, 149714, 149715, 149716, 149717, 149718, 149719, 149720, 149721, 149722, 149723, 149724, 149726, 149727, 149728, 149729, 149730, 149731, 149732, 149733, 149801, 149802, 149803, 149804, 149805, 149806, 149807, 149808, 149809, 149810, 149811, 149812, 149813, 149814, 149815, 149816, 149818, 149819, 149820, 149821, 149822, 149823, 149824, 149825, 149826, 149827, 149828, 149829, 149830, 149832, 149833, 149834, 149835, 149836, 149837, 149838, 149839, 149840, 149841, 149842, 149843, 149844, 149845, 149846, 149847, 149848, 149849, 149851, 149852, 149853, 149854, 149855, 149856, 149857, 149858, 149859, 149860, 149861, 149862, 149863, 149864, 149865, 149866, 149869, 149870, 149871, 149872, 149873, 149875, 149876, 149877, 149879, 149880, 149881, 150230, 150231, 150232, 150233, 150234, 150235, 150236, 150237, 150238, 150239, 150240, 150241, 150242, 150243, 150244, 150245, 150246, 150247, 150248, 150249, 150250, 150251, 150252, 150253, 150254, 150255, 150256, 150257, 150258, 150259, 150260, 150261, 150262, 150263, 150264, 150265, 150266, 150267, 151330, 151331, 151332, 151334, 151335, 151336, 151337, 151338, 151339, 151341, 151342, 151343, 151344, 151345, 151346, 151349, 151350, 151353, 151355, 151356, 151357, 151358, 151359, 151738, 151739, 151740, 151742, 151744, 151745, 151746, 151749, 151750, 151751, 151752, 151753, 151754, 151756, 152870, 152871, 152872, 152873, 152874, 152875, 152876, 152877, 152878, 152879, 152880, 152881, 152882, 152883, 152884, 152885, 152886, 152887, 152888, 152889, 152890, 152891, 152892, 152893, 152894, 152895, 152896, 152897, 152898, 152899, 152900, 152901, 152902, 152903, 152904, 152905, 153421, 153425, 153427, 153433, 153437, 153438, 153444, 153445, 153449, 153450, 153461, 153462, 153469, 153474, 153475, 153482, 153484, 153494, 153905, 153909, 153912, 153915, 153919, 153923, 153924, 153930, 153935, 153937, 153938, 153941, 153945, 153946, 153947, 153948, 153952, 153955, 153956, 153957, 153958, 153960, 153961, 153963, 153964, 153966, 153967, 153968, 153970, 153971, 153973, 153974, 153976, 153977, 153984, 153990, 153996, 153998, 154009, 154013, 154022, 154025, 154027, 154047, 154064, 154068, 154070, 154071, 154080, 154083, 154089, 154090, 154095, 154100
L87G-70 SCOTT (271) | 170007, 170008, 170009, 170010, 170011, 170012, 170013, 170014, 170015, 170016, 170017, 170018, 170019, 170020, 170021, 170022, 170023, 170024, 170025, 170026, 170027, 170028, 170029, 170030, 170031, 170032, 170033, 170034, 170035, 170036, 170037, 170038, 170039, 170040, 170041, 170042, 170043, 170044, 170045, 170046, 170047, 170048, 170049, 170050, 170051, 170052, 170053, 170054, 170055, 170056, 170057, 170058, 170059, 170060, 170061, 170062, 170063, 170064, 170065, 170066, 170067, 170068, 170069, 170070, 170071, 170072, 170073, 170074, 170075, 170076, 170077, 170078, 170079, 170080, 170081, 170123, 170124, 170125, 170126, 170127, 170128, 170129, 170130, 170131, 170132, 170133, 170134, 170135, 170136, 170137, 170138, 170139, 170140, 170141, 170142, 170143, 170144, 170145, 170146, 170147, 170148, 170149, 170150, 170151, 170152, 170153, 170154, 170155, 170156, 170157, 170158, 170159, 170160, 170161, 170162, 170163, 170164, 170165, 170166, 170167, 170168, 170169, 170170, 170171, 170172, 170173, 170174, 170175, 170176, 170177, 170178, 170179, 170180, 170181, 170182, 170183, 170184, 170185, 170186, 170187, 170188, 170189, 170190, 170191, 170192, 170193, 170194, 170195, 170196, 170197, 170198, 170200, 170201, 170202, 170203, 170204, 170205, 170206, 170207, 170208, 170209, 170210, 170211, 170212, 170213, 170214, 170215, 170216, 170217, 170218, 170219, 170220, 170221, 170222, 170223, 170224, 170225, 170226, 170227, 170228, 170229, 170230, 170231, 170232, 170233, 170234, 170235, 170236, 170237, 170238, 170239, 170240, 170241, 170242, 170243, 170244, 170245, 170246, 170247, 170248, 170249, 170335, 170336, 170337, 170338, 170339, 170340, 170341, 170342, 170343, 170344, 170345, 170346, 170347, 170348, 170349, 170350, 170351, 170352, 170353, 170354, 170355, 170356, 170357, 170358, 170359, 170360, 170361, 170362, 170363, 170364, 170365, 170366, 170367, 170368, 170369, 170370, 170371, 170372, 170373, 170374, 170375, 170376, 170377, 170378, 170379, 170380, 170381, 170382, 170383, 170384, 170385, 170386, 170387, 170388, 170389, 170390, 170391, 170392, 170393, 170394, 170395, 170396, 170397, 170398, 170399, 170400, 170401, 170402, 170403, 170404
L87G-71 SCOTT (76) | 171000, 171001, 171002, 171003, 171004, 171005, 171006, 171007, 171008, 171009, 171010, 171011, 171012, 171013, 171014, 171015, 171016, 171017, 171018, 171019, 171020, 171021, 171022, 171023, 171024, 171025, 171026, 171027, 171028, 171029, 171030, 171031, 171032, 171033, 171034, 171035, 171036, 171037, 171038, 171039, 171040, 171041, 171042, 171043, 171044, 171045, 171046, 171047, 171048, 171049, 171050, 171051, 171052, 171053, 171054, 171055, 171056, 171057, 171058, 171059, 171060, 171061, 171062, 171063, 171064, 171065, 171066, 171067, 171068, 171069, 171070, 171071, 171072, 171073, 171074, 171075
L87G-73 SCOTT (52) | 173000, 173001, 173002, 173003, 173004, 173005, 173006, 173007, 173008, 173009, 173010, 173011, 173012, 173013, 173014, 173015, 173016, 173017, 173018, 173019, 173020, 173021, 173022, 173023, 173024, 173025, 173026, 173027, 173028, 173029, 173030, 173031, 173032, 173033, 173034, 173035, 173036, 173037, 173038, 173039, 173040, 173111, 173112, 173113, 173114, 173115, 173116, 173117, 173118, 173119, 173120, 173121
L87G-74 SCOTT (57) | 174064, 174065, 174066, 174067, 174068, 174069, 174070, 174071, 174072, 174073, 174074, 174075, 174076, 174077, 174078, 174079, 174080, 174081, 174082, 174083, 174084, 174085, 174086, 174087, 174088, 174089, 174090, 174091, 174092, 174093, 174094, 174095, 174096, 174097, 174098, 174099, 174100, 174101, 174102, 174103, 174105, 174106, 174107, 174108, 174109, 174110, 174111, 174112, 174113, 174114, 174115, 174116, 174117, 174118, 174119, 174120, 174121
L87G-75 SCOTT (50) | 175000, 175001, 175002, 175003, 175004, 175005, 175006, 175007, 175008, 175009, 175010, 175011, 175012, 175013, 175014, 175015, 175016, 175017, 175018, 175019, 175020, 175021, 175022, 175023, 175024, 175025, 175026, 175027, 175028, 175029, 175030, 175031, 175032, 175033, 175034, 175035, 175036, 175037, 175038, 175039, 175040, 175041, 175042, 175043, 175044, 175045, 175046, 175047, 175048, 175049
M15B-1 DRAGER (16) | 2570, 2571, 2572, 2577, 2578, 2580, 2595, 2605, 2611, 2612, 2618, 2619, 2623, 2624, 2629, 2630
P07A-4 PMI (105) | 31650, 31651, 31652, 31653, 31654, 31655, 31656, 31657, 31658, 31659, 31660, 31661, 31662, 31663, 31664, 31665, 31666, 31667, 31668, 31669, 31670, 31671, 31672, 31673, 31674, 31675, 31676, 31677, 31678, 31679, 31680, 31681, 31682, 31683, 31684, 31685, 31686, 31687, 31688, 31689, 31690, 31691, 31692, 31693, 31694, 31695, 31696, 31697, 31698, 31699, 31700, 31701, 31702, 31703, 31704, 31705, 31706, 31707, 31708, 31709, 31710, 31711, 31712, 31713, 31714, 31715, 31716, 31717, 31718, 31719, 31720, 31721, 31722, 31723, 31724, 31725, 31726, 31727, 31728, 31729, 31730, 31731, 31732, 31733, 31734, 31735, 31736, 31737, 31738, 31739, 31740, 31741, 31742, 31743, 31744, 31745, 31746, 31747, 31748, 31749, 31750, 31751, 31752, 31753, 31754
P08F-3 PMI (210) | 100234, 100235, 100236, 100237, 100238, 100239, 100240, 100241, 100242, 100243, 100244, 100246, 100247, 100248, 100249, 100250, 100251, 100252, 100253, 100254, 100255, 100256, 100258, 100259, 100260, 100261, 100262, 100263, 100264, 100265, 100266, 100267, 100268, 100269, 100270, 100271, 100272, 100273, 100274, 100275, 100276, 100514, 100515, 100517, 100519, 100520, 100521, 100522, 100523, 100525, 100527, 100528, 100529, 100530, 100531, 100532, 100534, 100535, 100536, 100537, 100538, 100539, 100540, 100541, 100542, 100543, 100546, 100547, 100548, 100550, 100551, 100552, 100553, 100554, 100555, 100556, 100557, 100558, 100559, 100560, 100561, 100562, 100563, 100564, 100565, 100566, 100567, 100568, 100569, 100570, 100571, 100572, 100573, 100574, 100575, 100576, 100577, 100578, 100579, 100580, 100581, 100582, 100583, 100584, 100585, 100586, 100587, 100588, 100589, 100590, 100591, 100592, 100593, 100594, 100595, 100597, 100598, 100599, 100600, 100601, 100602, 100603, 100604, 100605, 100606, 100607, 100608, 100609, 100610, 100611, 100612, 100613, 100614, 100616, 100617, 100618, 100619, 100620, 100621, 100622, 100623, 100624, 100625, 100626, 100627, 100628, 100629, 100630, 100631, 100632, 100633, 100634, 100635, 100636, 100637, 100638, 100639, 100640, 100641, 100642, 100643, 100644, 100645, 100646, 100647, 100649, 100650, 100651, 100652, 100653, 100654, 100655, 100656, 100657, 103005, 103016, 103018, 103026, 103028, 103045, 103052, 103055, 103056, 103067, 103069, 103070, 103074, 103120, 103180, 103219, 103227, 103234, 103261, 103271, 103290, 103310, 103335, 103342, 103391, 103399, 103412, 103563, 103571, 103572, 103573, 103615, 103626, 103665, 103666, 103675
P11F-2 PMI (2) | 123248, 123249
P12A-2 PMI (11) | 21974, 21976, 21977, 21980, 21981, 21985, 21986, 21992, 21993, 21995, 22078
T109A-1 GOODR (37) | 6565, 6566, 6567, 6568, 6569, 6570, 6571, 6572, 6573, 6574, 6575, 6576, 6577, 6578, 6692, 6693, 6694, 6695, 6696, 6697, 6699, 6700, 6701, 6702, 6703, 6704, 6705, 6706, 6707, 6708, 6709, 6710, 6711, 6712, 6713, 6714, 6715
T112A-1 GOODR (25) | 1621, 1622, 1623, 1624, 1625, 1626, 1627, 1628, 1629, 1630, 1631, 1632, 1633, 1634, 1635, 1636, 1637, 1639, 1640, 1641, 1642, 1643, 1644, 1645, 1646
T123-1 GOODR (53) | 1621, 1622, 1623, 1624, 1625, 1626, 1627, 1628, 1629, 1630, 1631, 1632, 1633, 1634, 1635, 1636, 1637, 1639, 1640, 1641, 1642, 1643, 1644, 1645, 1646, 2504, 2505, 2506, 2507, 2508
Total Number (3,858)

[?USGPO Galley End:?]

Issued in Washington, DC, on April 26, 2006.
Robert A. McGuire,
Associate Administrator for Hazardous Materials Safety.

[FR Doc. E6-6535 Filed 4-28-06; 8:45 am]

BILLING CODE 4910-60-P